DEPARTMENT OF STATE

[Public Notice:11041]

Bureau of Political-Military Affairs, Directorate of Defense Trade Controls: Notifications to the Congress of Proposed Commercial Export Licenses

AGENCY: Department of State.

ACTION: Notice.

SUMMARY: Notice is hereby given that the Department of State has forwarded the attached Notifications of Proposed Export Licenses to the Congress on the dates indicated on the attachments pursuant to and in compliance with the Arms Export Control Act.

DATES: These documents are effective as shown on each of the 25 letters.

FOR FURTHER INFORMATION CONTACT: Ms. Paula C. Harrison, Directorate of Defense Trade Controls, Department of State, telephone (202) 663-3310; email DDTCResponseTeam@state.gov. ATTN: Congressional Notification of Licenses.

SUPPLEMENTARY INFORMATION: Section 36(f) of the Arms Export Control Act (22 U.S.C. 2776) mandates that notifications to the Congress pursuant to sections 36(c) and 36(d) must be published in the Federal Register when they are transmitted to Congress or as soon thereafter as practicable. Following are such notifications to the Congress:

Nov 26, 2019

The Honorable Nancy Pelosi, Speaker of the House of Representatives.

Dear Madam Speaker:

Pursuant to Sections 36(c) and (d) of the Arms Export Control Act, please find enclosed a certification of a proposed license for the manufacture of significant military equipment abroad and the export of defense articles, including technical data, and defense services in the amount of $1,000,000 or more.

The transaction contained in the attached certification involves the export of defense articles, including technical data, and defense services to the Philippines for the manufacture of 22 Magnum pistols.

The U.S. government is prepared to license the export of these items having taken into account political, military, economic, human rights, and arms control considerations.

More detailed information is contained in the formal certification which, though unclassified, contains business information submitted to the Department of State by the applicant, publication of which could cause competitive harm to the United States firm concerned.

Sincerely,

Mary Elizabeth Taylor,

Assistant Secretary Bureau of Legislative Affairs.

Enclosure: Transmittal No. DDTC 17-085.

Sep 23, 2019

The Honorable Nancy Pelosi, Speaker of the House of Representatives.

Dear Madam Speaker:

Pursuant to Section 36(c) of the Arms Export Control Act, please find enclosed a certification of a proposed license amendment for the export of defense articles, including technical data and defense services, in the amount of $50,000,000 or more.

The transaction contained in the attached certification involves the export of defense articles, including technical data and defense services, to the Republic of Korea to support the assembly, inspection, test, and production of the T700/701K engine for end use on the Korean Helicopter Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Legislative Affairs.

Enclosure: Transmittal No. DDTC 18-074.

Dec 05, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export of automatic rifles to Qatar for end use by the ministry of the Interior.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 18-083.

Oct 16, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Australia for the P-8A aircraft for the execution, sustainment, and follow-on development to support the Maritime Patrol and Reconnaissance Aircraft Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 18-099.

Oct 16, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export of fully automatic machine guns to Oman for the Omani Royal Police.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Legislative Affairs.

Enclosure: Transmittal No. DDTC 18-111.

Aug 23, 2019

The Honorable Nancy Pelosi, Speaker of the House of Representatives.

Dear Madam Speaker:

Pursuant to Section 36(c) of the Arms Export Control Act, please find enclosed a certification of a proposed license for the export of defense articles, including technical data, and defense services in the amount of $50,000,000 or more.

The transaction contained in the attached certification involves the export of defense articles, including technical data and defense services, to the Republic of Korea to support the manufacture of select T700/701K parts of the Korea Utility Helicopter (Surion Helicopter).

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-005.

Sep 12, 2009

The Honorable Nancy Pelosi, Speaker of the House of Representatives.

Dear Madam Speaker:

Pursuant to Section 36(c) of the Arms Export Control Act, please find enclosed a certification of a proposed license for the export of firearms parts and components abroad controlled under Category I of the U.S. Munitions List in the amount of $1,000,000 or more.

The transaction contained in the attached certification involves the export to Thailand of M16A4 upgrade kits comprised of upper receivers, barrel assemblies, carrying handle assemblies, bolt carrier assemblies, buffer assemblies and action springs.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-008.

Sep 17, 2019

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Taiwan to support the integration, installation, operation, training, testing, maintenance, and repair of the 30/40mm MK44 Bushmaster Automatic Cannon System and associated Ammunition Handling System for the Cloud Leopard Vehicle Program.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-010.

Oct 16, 2019

The Honorable Nancy Pelosi, Speaker of the House of Representatives.

Dear Madam Speaker:

Pursuant to Section 36(c) of the Arms Export Control Act, please find enclosed a certification of a proposed license for the export of defense articles, including technical data and defense services, in the amount of $50,000,000 or more.

The transaction contained in the attached certification involves the export of defense articles, including technical data and defense services, to Algeria and the UAE to support the transfer, modification, maintenance, and repair for Mine Resistant Ambush Protected (MRAP) vehicles for use by Algeria.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-013.

Aug 23, 2019

The Honorable Nancy Pelosi, Speaker of the House of Representatives.

Dear Madam Speaker:

Pursuant to Section 36(c) of the Arms Export Control Act, please find enclosed a certification of a proposed license amendment for the export of defense articles, including technical data and defense services, in the amount of $100,000,000 or more.

The transaction contained in the attached certification involves the export of defense articles, including technical data and defense services, to Australia to support the manufacture of F-35 weapons adapters.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-023.

Oct 25, 2019

The Honorable Nancy Pelosi, Speaker of the House of Representatives.

Dear Madam Speaker:

Pursuant to Section 36(c) of the Arms Export Control Act, please find enclosed a certification of a proposed license amendment for the export of defense articles, including technical data, and defense services in the amount of $50,000,000 or more.

The transaction contained in the attached certification involves the export of defense articles, including technical data, and defense services to Italy, UK, Switzerland, and Czechia Republic to support the development, modification, installation, integration, test, operation, and use of mechanical, avionics, environmental, and lighting systems for the C27J.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-024.

Oct 16, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Brazil of 9mm semi-automatic pistols and spare barrels.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-026.

Oct 16, 2019

The Honorable Nancy Pelosi, Speaker of the House of Representatives.

Dear Madam Speaker:

Pursuant to Section 36(c) of the Arms Export Control Act, please find enclosed a certification of a proposed amendment to a manufacturing license agreement for the export of defense articles, including technical data and defense services, in the amount of $100,000,000 or more.

The transaction contained in the attached certification involves the transfer of defense articles, to include technical data and defense services, to Japan for the production of the MK41 Vertical Launching System (VLS).

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-027.

Oct 25, 2019

The Honorable Nancy Pelosi, Speaker of the House of Representatives.

Dear Madam Speaker:

Pursuant to Section 36(d) of the Arms Export Control Act, please find enclosed a certification of a proposed license for the export of defense articles, including technical data and defense services, for the manufacture of significant military equipment abroad.

The transaction contained in the attached certification involves the export of defense articles, including technical data and defense services, to Qatar to support the design, tooling creation, and production line setup to produce, assemble, field, and maintain a weapon mounted flashlight system incorporating visible and infrared lights and laser pointers.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor.

Assistant Secretary Bureau of Legislative Affairs.

Enclosure: Transmittal No. DDTC 19-029.

Sep 09, 2019

The Honorable Nancy Pelosi, Speaker of the House of Representatives.

Dear Madam Speaker:

Pursuant to Section 36(c) of the Arms Export Control Act, please find enclosed a certification of a proposed license for the export of firearms abroad controlled under Category I of the U.S. Munitions List in the amount of $1,000,000 or more.

The transaction contained in the attached certification involves the export of 5.56mm automatic rifles to Thailand for end use by the Royal Thai Army.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-030.

Nov 18, 2019

The Honorable Nancy Pelosi, Speaker of the House of Representatives.

Dear Madam Speaker:

Pursuant to Section 36(c) and (d) of the Arms Export Control Act, please fine enclosed a certification of a proposed license for the manufacture of significant military equipment abroad and the export of defense articles, including technical data and defense services, abroad controlled under Category I of the U.S. Munitions List in the amount of $1,000,000 or more.

The transaction contained in the attached certification involves the export of defense articles, including technical data and defense services, to Italy and Qatar to support the manufacture, integration, assembly, operation, training, testing, and maintenance of 300 Blackout 5.56mm upper and lower receivers and weapon assembly.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-031.

Oct 16, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of M60E6 7.62mm machine guns and spare parts to Denmark for the Ministry of Defense.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-033.

Oct 25, 2019

The Honorable Nancy Pelosi, Speaker of the House of Representatives.

Dear Madam Speaker:

Pursuant to Sections 36(c) and (d) of the Arms Export Control Act, please find enclosed a certification of a proposed license amendment for the export of defense articles, including technical data and defense services, in the amount of $100,000,000 or more.

The transaction contained in the attached certification involves the export of defense articles, including technical data and defense services, to the Republic of Korea to support the manufacture, assembly, and testing of subassemblies for the MK45 Mod 4 Gun Mount.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-034.

Oct 25, 2019

The Honorable Nancy Pelosi, Speaker of the House of Representatives.

Dear Speaker:

Pursuant to Section 36(c) and (d) of the Arms Export Control Act, please find enclosed a certification of a proposed license for the manufacture of significant military equipment abroad and the export of defense articles, including technical data and defense services, in the amount of $100,000,000 or more.

The transaction contained in the attached certification involves the export of defense articles, including technical data and defense services, to the UK to support the design, development, manufacture, assembly, engineering, operation, modification, testing, intermediate-level maintenance, productions, qualification, repair, and rework of the guidance electronic assemblies (GEAs), circuit cards assemblies (CCAs), electronic modules, power supplies, and associated electronic and mechanical assemblies, subassemblies, components, and test equipment for the Excalibur Increment 1b Guided Munitions Weapon System.

The U.S. government is prepared to license the export of these items having taken into account political, military, economic, human rights, and arms control considerations. More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-040.

Dec 05, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to Australia in support of the F135 propulsion system for end use in the F-35 Lightning II Joint Strike Fighter aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-056.

Oct 25, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export of .50 caliber automatic machineguns and associated parts and spares to Norway.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-065.

Nov 26, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to the Netherlands of .300 caliber automatic rifles and spare parts.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-066.

Dec 19, 2019

The Honorable Nancy Pelosi, Speaker of the House of Representatives.

Dear Madam Speaker:

Pursuant to Section 36(c) of the Arms Export Control Act, please find enclosed a certification of a proposed license for the export of defense articles, including technical data and defense services, in the amount of $100,000,000 or more.

The transaction contained in the attached certification involves the export of defense articles, including technical data and defense services, to the UK for the support and installation of the MK 45 mod 4 naval gun system, type 26 ammunition handling system, and ammunition lift on the type 26 Maritime Indirect Fire System (MIFS) frigates.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-067.

Dec 05, 2019

The Honorable Nancy Pelosi, Speaker of the House of Representatives.

Dear Madam Speaker:

Pursuant to Section 36(c) of the Arms Export Control Act, we are transmitting certification of a proposed license for the export of firearms abroad controlled under Category I of the U.S. Munitions List in the amount of $1,000,000 or more.

The transaction contained in the attached certification involves the export to Kuwait of 5.56mm automatic rifles for the Ministry of the Interior.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-070.

Dec 19, 2019

The Honorable Nancy Pelosi, Speaker of the House of Representatives.

Dear Madam Speaker:

Pursuant to Section 36(c) of the Arms Export Control Act, please find enclosed a certification of a proposed license for the export of firearms, parts, and components abroad controlled under Category I of the U.S. Munitions List in the amount of $1,000,000 or more.

The transaction contained in the attached certification involves the export to Australia of 120mm .50 caliber inbore sub-caliber training devices.

The U.S. government is prepared to license the export of these items having taken into account political, military, economic, human rights, and arms control considerations.

More detailed information is contained in the formal certification which, though unclassified, contains business information submitted to the Department of State by the applicant, publication of which could cause competitive harm to the U.S. firm concerned.

Sincerely,

Mary Elizabeth Taylor,

Assistant Secretary Bureau of Legislative Affairs.

Enclosure: Transmittal No. DDTC 19-091.

Paula C. Harrison,
Senior Management Analyst, Directorate of Defense Trade Controls, U.S. Department of State.

[FR Doc. 2020-05297 Filed 3-13-20; 8:45 am]

BILLING CODE 4710-25-P